DEPARTMENT OF ENERGY

Federal Energy Regulatory Commission

[Project No. 14758-000]

Energy Resources USA Inc.; Notice of Preliminary Permit Application Accepted for Filing and Soliciting Comments, Motions To Intervene, and Competing Applications

On February 19, 2016, Energy Resources USA Inc. filed an application for a preliminary permit, pursuant to section 4(f) of the Federal Power Act (FPA), proposing to study the feasibility of the Bosher Dam Hydroelectric Project (Bosher Project or project) to be located at the existing Bosher Dam on the James River, about 2 miles southwest of Tuckahoe, in Henrico County, Virginia. The sole purpose of a preliminary permit, if issued, is to grant the permit holder priority to file a license application during the permit term. A preliminary permit does not authorize the permit holder to perform any land-disturbing activities or otherwise enter upon lands or waters owned by others without the owners' express permission.

The proposed project would consist of the following: (1) An existing 12-foot-high dam; (2) an 1,000-acre-size impoundment with a storage capacity of 2,100-acre-foot and drainage area of 6,753 square miles; (3) a new 700-foot-long, 180-foot-wide intake; (4) a new 300-foot-long, 180-foot-wide tailrace; (5) four new 2-megawatt (MW) turbines; (6) a new 65-foot-long, 197-foot-wide powerhouse; (7) a new 60-foot-long, 50-foot-wide substation; (8) a new 528-foot-long, 69-kilovolt transmission line; and (9) appurtenant facilities. The estimated annual generation of the Bosher Project would be 68,500 megawatt-hours.

Applicant Contact: Mr. Ander Gonzalez, Energy Resources USA Inc., 350 Lincoln Road, 2nd Floor, Miami Beach, FL 33139; phone: (954) 248-5425.

FERC Contact: Woohee Choi; phone: (202) 502-6336.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14758-000.

More information about this project, including a copy of the application, can be viewed or printed on the “eLibrary” link of the Commission's Web site at http://www.ferc.gov/docs-filing/elibrary.asp. Enter the docket number (P-14758) in the docket number field to access the document. For assistance, contact FERC Online Support.

Dated: April 6, 2016.
Kimberly D. Bose,
Secretary.

[FR Doc. 2016-08860 Filed 4-15-16; 8:45 am]

BILLING CODE 6717-01-P